DEPARTMENT OF TRANSPORTATION

Federal Aviation Administration

14 CFR Part 71

[Docket No. FAA-2021-0803; Airspace Docket No. 19-AAL-58]

RIN 2120-AA66

Amendment of United States Area Navigation Route (RNAV) T-222; Bethel, AK

AGENCY: Federal Aviation Administration (FAA), DOT.

ACTION: Final rule; correction.

SUMMARY: This action corrects a final rule published by the FAA in the Federal Register on June 30, 2022, that amends United States Area Navigation (RNAV) route T-222 in the vicinity of Bethel, AK, in support of a large and comprehensive T-route modernization project for the state of Alaska. The final rule identified the CABOT, AK, and IKUFU, AK, route points as waypoints (WPs), in error. This action makes editorial corrections to all references of the CABOT, AK, and IKUFU, AK, WPs to change them to be reflected as Fixes and match the FAA's aeronautical database information.

DATES: Effective date 0901 UTC, September 8, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 38915; June 30, 2022), amending T-222 in support of a large and comprehensive T-route modernization project for the state of Alaska. Subsequent to publication, the FAA determined that the CABOT, AK, and IKUFU, AK, route points were inadvertently identified as WPs, in error. This rule corrects those errors by changing all references of the CABOT, AK, and IKUFU, AK, WPs to the CABOT, AK, and IKUFU, AK, Fixes, respectively. These are editorial changes only to match the FAA's aeronautical database information and does not alter the alignment of the affected T-222 route.

United States Area Navigation Routes are published in paragraph 6011 of FAA Order JO 7400.11F, dated August 10, 2021, and effective September 15, 2021, which is incorporated by reference in 14 CFR 71.1. The RNAV T-route listed in this document will be published subsequently in FAA Order JO 7400.11.

Correction to Final Rule

Accordingly, pursuant to the authority delegated to me, all references to the CABOT, AK, and IKUFU, AK, WPs reflected in Docket No. FAA-2021-0803, as published in the Federal Register of June 30, 2022 (87 FR 38915), FR Doc. 2022-13879, are corrected as follows:

1. In FR Doc. 2022-13879, appearing on page 38915, in the second column, at lines 54-56, correct “adding five additional WPs (CABOT, WOGAX, IKUFU, JILSI, and CYCAS) in the” to read “adding three additional WPs (WOGAX, JILSI, and CYCAS) and two Fixes (CABOT and IKUFU) in the”.

2. In FR Doc. 2022-13879, appearing on page 38916, in the third column, at line 17, correct “CABOT, AK WP (lat. 61°12′01.32″ N, long. 160°45′20.93″ W)” to read “CABOT, AK FIX (lat. 61°12′01.32″ N, long. 160°45′20.93″ W)”.

3. In FR Doc. 2022-13879, appearing on page 38916, in the third column, at line 19, correct “IKUFU, AK WP (lat. 61°40′34.53″ N, long. 159°52′35.43″ W)” to read “IKUFU, AK FIX (lat. 61°40′34.53″ N, long. 159°52′35.43″ W)”.

Issued in Washington, DC, on August 3, 2022.
Scott M. Rosenbloom,
Manager, Airspace Rules and Regulations.

[FR Doc. 2022-17211 Filed 8-12-22; 8:45 am]

BILLING CODE 4910-13-P